DEPARTMENT OF THE INTERIOR

Fish and Wildlife Service

Shawangunk Grasslands National Wildlife Refuge

AGENCY: Fish and Wildlife Service, Interior.

ACTION: Notice of availability: Final comprehensive conservation plan and finding of no significant impact.

SUMMARY: The Fish and Wildlife Service (Service) announces the availability of the final Comprehensive Conservation Plan (CCP) and Finding of No Significant Impact for the Shawangunk Grasslands National Wildlife Refuge (NWR). Prepared in conformance with the National Wildlife Refuge System Administration Act of 1966, as amended by the National Wildlife Refuge System Improvement Act of 1997, and the National Environmental Policy Act of 1969, the plan describes how we intend to manage that refuge over the next 15 years.

ADDRESSES: You may obtain copies of this CCP on compact disk or in print by writing to Wallkill River NWR, 1547 County Route 565, Sussex, New Jersey, 07461, or by calling 973-702-7266. You can also access and download a copy from the Web site http://library.fws.gov/ccps.htm.

FOR FURTHER INFORMATION CONTACT: Edward Henry, Refuge Manager, Wallkill River NWR, at 973-702-7266, or by e-mail at Edward_Henry@fws.gov.

SUPPLEMENTARY INFORMATION: The National Wildlife Refuge System Improvement Act of 1997 requires CCPs for all refuges to provide refuge managers with 15-year strategies for achieving refuge purposes and furthering the mission of the National Wildlife Refuge System. Developing CCPs is done according to the sound principles of fish and wildlife science and laws, while adhering to Service planning and related policies. In addition to outlining broad management direction on conserving refuge wildlife and habitat, CCPs identify wildlife-dependent recreational opportunities available to the public, including opportunities for hunting, fishing, wildlife observation and photography, and environmental education and interpretation. We will review and update this CCP at least once every 15 years.

The 566-acre refuge lies in the Town of Shawangunk, Ulster County, New York. Its purpose is “carrying out the national migratory bird management program” (16 U.S.C. 667b). State and regional conservation plans identify its regional importance for breeding and migrating grassland birds and wintering raptors. In 1999, we accepted a transfer of land from the United States Military Academy at West Point through the General Services Administration. That transfer occurred under the legislative authority of the Transfer of Certain Real Property for Wildlife Conservation Purposes Act (16 U.S.C. 667b) and the Federal Property and Administrative Services Act (40 U.S.C. 471 et seq.; repealed by Public Law 107-217, August 21, 2002). Since then, we have not added any land to the refuge.

In December 2005, we distributed a draft CCP/EA for public review and comment for 57 days between December 5, 2005, and January 31, 2006. Its distribution was announced in the Federal Register on December 5, 2005 (70 FR 72463). That draft analyzed three alternatives for managing the refuge. We also held one public meeting on January 17, 2006, to obtain public comments. We received 590 responses. Appendix I of the final CCP includes a summary of those comments and our responses to them.

We selected Alternative B (the Service-preferred alternative) from the draft CCP/EA as the alternative for implementation. Our final CCP fully describes its details. Staff from the Wallkill River NWR headquarters office in Sussex, New Jersey, will continue to administer the Shawangunk Grasslands NWR. A small, seasonally staffed visitor contact facility and an improved parking area and kiosk will increase opportunities for visitor outreach and improve the visibility of the Service. Other highlights of the final CCP include:

(1) Managing 430 acres of grassland habitat using a diversity of tools and techniques with the objective to sustain high quality habitat for wintering raptors and nesting, foraging, and migrating grassland-dependent birds;

(2) Opening the refuge to fishing in the small pond;

(3) Initiating an archery hunt for white-tailed deer in the fall;

(4) Constructing an interpretive trail with observation platforms and photography blinds;

(5) Reducing the scope of the original proposed restoration of the former military airport runways and taxiways to grassland to account for areas being used effectively by nesting grassland birds, and look for opportunities to recycle waste materials onsite or nearby;

(6) Restoring the natural hydrology of the area, to the extent it does not impede grasslands management, and

(7) Identifying a 3,486-acre Shawangunk Grasslands Focus Area, where the Service will participate in cooperative conservation activities.

Dated: June 14, 2006.
Richard O. Bennett,
Acting Regional Director, U.S. Fish and Wildlife Service, Hadley, Massachusetts.

[FR Doc. E6-10915 Filed 7-11-06; 8:45 am]

BILLING CODE 4310-55-P